DEPARTMENT OF HOUSING AND URBAN DEVELOPMENT

[Docket No. FR-4557-N-25]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW., Washington, DC 20410; telephone(202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use as assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: DOT: Mr. Rugene Spruill, Space Management, SVC-140, Transportation Administrative Service Center, Department of Transportation, 400 7th Street, SW., Room 2310, Washington, DC 20590; (202) 366-4146; GSA: Mr. Brian K. Polly, Assistant Commissioner, General Services Administration, Office of Contract & Property Disposal, 18th and F Streets, NW., Washington, DC 20405; (202) 501-0052; ENERGY: Mr. Tom Knox, Department of Energy, Office of Contract & Resource Management, MA-52, Washington, DC 20585; (202) 586-8715); INTERIOR: Mr. Al Barth, Department of the Interior, 1849 C Street, NW., Mail Stop 5512-MIB, Washington, DC 20240; (202) 208-7283; NAVY: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: June 15, 2000.
Fred Karnas, Jr.,
Deputy Assistant Secretary for Special Needs Assistance Programs.

TITLE V, FEDERAL SURPLUS PROPERTY PROGRAM FEDERAL REGISTER REPORT FOR 6/23/00

Suitable/Available Properties

Buildings (by State)

Illinois

Milo Comm. Tower Site

350 N. Rt. 8

Milo Co: Bureau IL 56142-

Landholding Agency: GSA

Property Number: 54200020018

Status: Excess

Comment: 120 sq. ft. cinder block bldg.

GSA Number: 1-D-IL-795

LaSalle Comm. Tower Site

1600 NE 8th St.

Richland Co: LaSalle IL 61370-

Landholding Agency: GSA

Property Number: 54200020019

Status: Excess

Comment: 120 sq. ft. cinder block bldg. and a 300′ tower

GSA Number: 1-D-IL-724

New Hampshire

Bldg. 179

Portsmouth Naval Shipyard

Portsmouth Co: NH 03804-5000

Landholding Agency: Navy

Property Number: 77200020099

Status: Excess

Comment: 1452 sq. ft., needs rehab, presence of asbestos/lead paint, most recent use—quarters, off-site use only

Bldg. 201

Portsmouth Naval Shipyard

Portsmouth Co: NH 03804-5000

Landholding Agency: Navy

Property Number: 77200020100

Status: Excess

Comment: 450 sq. ft., presence of asbestos/lead paint, off-site use only

Bldg. 304

Portsmouth Naval Shipyard

Portsmouth Co: NH 03804-5000

Landholding Agency: Navy

Property Number: 77200020101

Status: Excess

Comment: 1320 sq. ft., presence of asbestos/lead paint, most recent use—garb. house, off-site use only

New Mexico

Bldgs. 847, 6600

Kirtland AFB

Albuquerque Co: Bernalilo NM 87185-

Landholding Agency: Energy

Property Number: 41200020021

Status: Excess

Comment: 4053 sq. ft. & 1501 sq. ft., needs rehab, presence of asbestos, off-site use only

Land (by State)

Maryland

12.52 acres

Casson Neck

Cambridge Co: Dorchester MD 00000-

Landholding Agency: GSA

Property Number: 54200020020

Status: Excess

Comment: 12.52 acres, possible restrictions due to wetlands

GSA Number: 4-U-MD-600A

Ohio

Licking County Tower Site

Summit & Haven Corner Rds

Pataskala Co: Licking OH 43062-

Landholding Agency: GSA

Property Number: 54200020021

Status: Excess

Comment: Parcel 100=3.67 acres, 100E=0.57 acres

GSA Number: 1-W-OH-813

Washington

0.23 acres

off SR25

Kettle Falls Co: Stevens WA 99107-

Landholding Agency: Interior

Property Number: 61200020027

Status: Excess

Comment: Subject to existing right-of-ways, no utilities, rough terrain

Wyoming

Flying J

Shoshone Project

Park Co: WY 82414-

Landholding Agency: GSA

Property Number: 54200020022

Status: Excess

Comment: Approx. 46.35 acres, no utilities, most recent use—oil refinery

GSA Number: 7-1-WY-0539A

Unsuitable Properties

Buildings (by State)

Alaska

Boathouse

Coast Guard Station

Ketchikan

Ketchikan Co: AK 99901-

Landholding Agency: DOT

Property Number: 87200020001

Unutilized

Reasons: Within 2000 ft. of flammable or explosive material Secured Area

California

Bldg. 22074

Marine Corps Base

Camp Pendleton Co: CA 92055-

Landholding Agency: Navy

Property Number: 77200020092

Status: Unutilized

Reason: Extensive deterioration

Bldg. 62324

Marine Corps Base

Camp Pendleton Co: CA92055-

Landholding Agency: Navy

Property Number: 77200020093

Status: Unutilized

Reason: Extensive deterioration

Bldg. H-62

Marine Corps Base

Camp Pendleton Co: CA 92055-

Landholding Agency: Navy

Property Number: 77200020094

Status: Unutilized

Reason: Extensive deterioration

Connecticut

10 Bldgs./84.62 acres

Naval Weapons Ind. Rsv. Pl.

Bloomfield Co: Hartford CT 06002-0002

Landholding Agency: Navy

Property Number: 77200020096

Status: Unutilized

Reason: Secured Area

Hawaii

Coral Rose Navy Housing

Former Naval Air Station

Kapolei Co: HI 96707-

Landholding Agency: Navy

Property Number: 77200020097

Status: Unutilized

Reason: Extensive deterioration

Maine

Bldg. 90

Naval Security Group

Activity

Winter Harbor Co: ME 00000-

Landholding Agency: Navy

Property Number: 77200020098

Status: Excess

Reason: Extensive deterioration

Michigan

Navy Housing

64 Barberry Drive

Springfield Co: Calhoun MI 49015-

Landholding Agency: GSA

Property Number: 54200020013

Status: Excess

Reason: Within 2000 ft. of flammable or explosive material

GSA Number: 1-N-MI-795

New Jersey

Bachardy, William House

Flatbrook-Stillwater Rd.

Wallpack Center Co: Sussex NJ 07881-

Landholding Agency: Interior

Property Number: 61200020022

Status: Unutilized

Reason: Extensive deterioration

Pennsylvania

Mueller, Louis House

Rt. 209

Dingman's Ferry Co: Pike PA 18328-

Landholding Agency: Interior

Property Number: 61200020023

Status: Unutilized

Reason: Extensive deterioration

Vanaria, Edward Garage

Rt. 209

Dingman's Ferry Co: Pike PA 18328-

Landholding Agency: Interior

Property Number: 61200020024

Status: Unutilized

Reason: Extensive deterioration

Foster, Dorothy House

Freeman Tract Rd.

Bushkill Co: Pike PA 18324-

Landholding Agency: Interior

Property Number: 61200020025

Status: Unutilized

Reason: Extensive deterioration

Span, Irene House

Freeman Tract Rd.

Bushkill Co: Monroe PA 18324-

Landholding Agency: Interior

Property Number: 61200020026

Status: Unutilized

Reason: Extensive deterioration

South Carolina

Bldg. 38

Naval Air Station

Goose Creek Co: Berkeley SC 29445-

Landholding Agency: Navy

Property Number: 77200020105

Status: Unutilized

Reasons: Secured Area; Extensive deterioration

Virginia

Bldgs. 101, 239

Norfolk Station

St. Juilen's Creek Annex

Portsmouth Co: VA 23511-

Landholding Agency: Navy

Property Number: 77200020102

Status: Unutilized

Reason: Extensive deterioration

Facility 189

Norfolk Station

St. Julien's Creek Annex

Portsmouth Co: VA 23511-

Landholding Agency: Navy

Property Number: 77200020103

Status: Unutilized

Reason: Extensive deterioration

Facility 190

Norfolk Station

St. Julien's Creek Annex

Portsmouth Co: VA 23511-

Landholding Agency: Navy

Property Number: 77200020104

Status: Unutilized

Reason: Extensive deterioration

Land (by State)

California

PCL-4 (11.60 acres)

Construction Battalion

Center

Port Hueneme Co: Ventura CA 93043-4301

Landholding Agency: Navy

Property Number: 77200020095

Status: Unutilized

Reason: Secured Area

[FR Doc. 00-15557 Filed 6-22-00; 8:45 am]

BILLING CODE 4210-29-M